DEPARTMENT OF HOMELAND SECURITY

Coast Guard

33 CFR Part 100

[Docket No. USCG-2009-0558]

RIN 1625-AA08

Eleventh Coast Guard District Annual Marine Events

AGENCY: Coast Guard, DHS.

ACTION: Notice of proposed rulemaking.

SUMMARY: The Coast Guard proposes to update and consolidate the list of marine events occurring annually within the Eleventh Coast Guard District. These amendments will standardize the special local regulations language, update listed events, delete events that are no longer occurring, add new unlisted annual events to the regulation, and standardize the format for all tables in these four sections. When these special local regulations are activated, and thus subject to enforcement, this rule would enable vessel movement restrictions in the regulated area.

DATES: Comments and related material must be received by the Coast Guard on or before March 11, 2011. Requests for public meetings must be received by the Coast Guard on or before March 1, 2011.

ADDRESSES: You may submit comments identified by docket number USCG-2009-0558 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this proposed rule, call or e-mail Lieutenant Junior Grade Lucas Mancini, Eleventh Coast Guard District Prevention Division, Waterways Management Branch, Coast Guard; telephone 510-437-3801, e-mail Lucas.W.Mancini@uscg.mil. If you have questions on viewing or submitting material to the docket, call Renee V. Wright, Program Manager, Docket Operations, telephone 202-366-9826.

SUPPLEMENTARY INFORMATION:

Public Participation and Request for Comments

We encourage you to participate in this rulemaking by submitting comments and related materials. All comments received will be posted without change to http://www.regulations.gov and will include any personal information you have provided.

Submitting Comments

If you submit a comment, please include the docket number for this rulemaking (USCG-2009-0558), indicate the specific section of this document to which each comment applies, and provide a reason for each suggestion or recommendation. You may submit your comments and material online (via http://www.regulations.gov) or by fax, mail, or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an e-mail address, or a telephone number in the body of your document so that we can contact you if we have questions regarding your submission.

To submit your comment online, go to http://www.regulations.gov, click on the “submit a comment” box, which will then become highlighted in blue. In the “Document Type” drop down menu select “Proposed Rule” and insert “USCG-2009-0558” in the “Keyword” box. Click “Search” then click on the balloon shape in the “Actions” column. If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

Viewing Comments and Documents

To view comments, as well as documents mentioned in this preamble as being available in the docket, go to http://www.regulations.gov, click on the “read comments” box, which will then become highlighted in blue. In the “Keyword” box insert “USCG-2009-0558” and click “Search.” Click the “Open Docket Folder” in the “Actions” column. You may also visit the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not now plan to hold a public meeting. But you may submit a request for one on or before March 1, 2011 using one of the four methods specified under ADDRESSES. Please explain why you believe a public meeting would be beneficial. If we determine that one would aid this rulemaking, we will hold one at a time and place announced by a later notice in the Federal Register.

For information on facilities or services for individuals with disabilities or to request special assistance at the public meeting, contact Lieutenant Junior Grade Lucas Mancini at the telephone number or email address indicated under the FOR FURTHER INFORMATION CONTACT section of this notice.

Background and Purpose

Marine events are annually held on a recurring basis on the navigable waters within the Eleventh Coast Guard District. These events include sailing regattas, powerboat races, rowboat races, parades, and swim events. Many of the annual events requiring special local regulations do not currently reflect changes in actual dates and other required information.

The effect of these proposed special local regulations will be to restrict general navigation in the vicinity of the events, from the start of each event until the conclusion of that event. These areas will be patrolled at the discretion of the Coast Guard. Except for persons or vessels authorized by the Coast Guard Patrol Commander, no person or vessel may enter or remain in the regulated area. These regulations are needed to keep spectators and vessels a safe distance away from the specified events to ensure the safety of participants, spectators, and transiting vessels

Discussion of Proposed Rule

The Coast Guard proposes to revise 33 CFR 100.1101, 100.1102, 100.1103, and to add 33 CFR 100.1104. The proposed changes will effectively update the outdated special local regulations. The proposed amendments and addition will address minor corrections required in the regulatory text.

The Coast Guard proposes to amend 33 CFR 100.1101, 1101.1102, and 100.1103 by replacing paragraphs a and b of each section to conform to a uniform regulatory text for these sections of 33 CFR Part 100 that govern annual marine events within the Eleventh Coast Guard District. Table 1 for each of the listed sections is being updated as follows: Existing events that continue to occur are being updated with current information, previously unlisted events are being added, and listed events that the Coast Guard has been unable to verify as continuing are being deleted. The proposed addition of a 33 CFR 100.1104 is needed to ease administrative burden on the event sponsors and the public by adding a specific section for annual marine events requiring special local regulations in the Los Angeles Long Beach Captain of the Port Zone.

Regulatory Analyses

We developed this proposed rule after considering numerous statutes and executive orders related to rulemaking. Below we summarize our analyses based on 13 of these statutes or executive orders.

Regulatory Planning and Review

This proposed rule is not a significant regulatory action under section 3(f) of Executive Order 12866, Regulatory Planning and Review, and does not require an assessment of potential costs and benefits under section 6(a)(3) of that Order. The Office of Management and Budget has not reviewed it under that Order. We expect the economic impact of this proposed rule to be so minimal that a full Regulatory Evaluation is unnecessary. This rule is not a significant regulatory action because the regulations exist for a limited period of time on a limited portion of the waterways. Further, individuals and vessels desiring to use the affected portion of the waterways may seek permission from the Patrol Commander to use the affected areas.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

We expect this proposed rule will affect the following entities, some of which may be small entities: The owners and operators of vessels intending to fish, transit, or anchor in the waters affected by these special local regulations. These special local regulations will not have a significant economic impact on a substantial number of small entities for the following reasons: Small vessel traffic will be able to pass safely around the area and vessels engaged in event activities, sightseeing and commercial fishing have ample space outside of the area governed by the special local regulations to engage in these activities. Small entities and the maritime public will be advised of implementation of these special local regulations via public notice to mariners or notice of implementation published in the Federal Register.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact Lieutenant Lucas Mancini, Eleventh Coast Guard District Prevention Division, Waterways Management Branch, Coast Guard; telephone 510-437-3801, e-mail Lucas.W.Mancini@uscg.mil. The Coast Guard will not retaliate against small entities that question or complain about this proposed rule or any policy or action of the Coast Guard.

Collection of Information

This proposed rule would call for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

Taking of Private Property

This proposed rule would not cause a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Department of Homeland Security Management Directive 023-01 and Commandant Instruction M16475.lD, which guide the Coast Guard in complying with the National Environmental Policy Act of 1969 (NEPA) (42 U.S.C. 4321-4370f), and have made a preliminary determination, under paragraph 34(h) of the Instruction, that this action is one of a category of actions that do not individually or cumulatively have a significant effect on the human environment. A preliminary environmental analysis checklist supporting this determination is available in the docket where indicated under ADDRESSES. We seek any comments or information that may lead to the discovery of a significant environmental impact from this proposed rule.

List of Subjects in 33 CFR Part 100

Marine safety, Navigation (water), Reporting and recordkeeping requirements, Waterways.

For the reasons discussed in the preamble, the Coast Guard proposes to amend 33 CFR part 100 as follows:

PART 100—MARINE EVENTS

1. The authority citation for part 100 continues to read as follows:

Authority: 33 U.S.C. 1233.

2. Revise 33 CFR 100.1101 to read as follows:

§ 100.1101 Southern California Annual Marine Events for the San Diego Captain of the Port Zone.

(a) General. Special local regulations are established for the events listed in Table 1 of this section. Notice of implementation of these special local regulations will be made by publication in the Federal Register 30 days prior to the event for those events without specific dates. In all cases, further information on exact dates, times, and other details concerning the number and type of participants and an exact geographical description of the areas are published by the Eleventh Coast Guard District in the Local Notice to Mariners at least 20 days prior to each event. Note: Sponsors of events listed in Table 1 of this section must submit an application each year as required by 33 CFR part 100 to the cognizant Coast Guard Sector Commander no less than 60 days before the start of the proposed event. Sponsors are informed that ample lead time is required to inform all Federal, state, local agencies, and/or other interested parties and to provide the sponsor the best support to ensure the safety of life and property.

(b) Special local regulations. All persons and vessels not registered with the sponsor as participants or as official patrol vessels are considered spectators. The “official patrol” consists of any Coast Guard or other vessels assigned or approved by the cognizant Coast Guard Sector Commander to patrol each event.

(1) No spectator shall anchor, block, loiter, nor impede the through transit of participants or official patrol vessels in the regulated areas during all applicable effective dates and times unless cleared to do so by or through an official patrol vessel.

(2) When hailed and/or signaled by an official patrol vessel, any spectator located within a regulated area during all applicable effective dates and times shall come to an immediate stop.

(3) The Patrol Commander (PATCOM) is empowered to forbid and control the movement of all vessels in the regulated area. The Patrol Commander shall be designated by the cognizant Coast Guard Sector Commander; will be a U.S. Coast Guard commissioned officer, warrant officer, or petty officer to act as the Sector Commander's official representative; and will be located aboard the lead official patrol vessel. As the Sector Commander's representative, the PATCOM may terminate the event any time it is deemed necessary for the protection of life and property. PATCOM may be reached on VHF-FM Channel 13 (156.65MHz) or 16 (156.8MHz) when required, by the call sign “PATCOM”.

(4) The Patrol Commander may, upon request, allow the transit of commercial vessels through regulated areas when it is safe to do so.

(5) The Coast Guard may be assisted by other Federal, state, or local agencies.

Table 1 to § 100.1101
[All coordinates referenced use datum NAD 83.]
| 1. San Diego Fall Classic
Sponsor | San Diego Rowing Club.
Event Description | Competitive rowing race.
Date | Sunday in November.
Location | Mission Bay, CA.
Regulated Area | The waters of Mission Bay to include South Pacific Passage, Fiesta Bay, and the waters around Vacation Isle.
| 2. California Half Ironman Triathlon
Sponsor | North America Sport, Inc.
Event Description | Swimming Portion of Triathlon Race.
Date | Saturday in late March or early April.
Location | Oceanside, CA.
Regulated Area | The waters of Oceanside Harbor, CA, including the entrance channel.
| 3. San Diego Crew Classic
Sponsor | San Diego Crew Classic.
Event Description | Competitive rowing race.
Date | First Saturday and Sunday in April.
Location | The Mission Bay Park area of San Diego, CA.
Regulated Area | Mission Bay, the portion known as Fiesta Bay.
| 4. Dutch Shoe Regatta
Sponsor | San Diego Yacht Club.
Event Description | Sailboat Race.
Date | Friday in late July.
Location | San Diego, CA.
Regulated Area | The waters of San Diego Bay, CA, from Shelter Island to Glorietta Bay.
| 5. San Diego Parade of Lights
Sponsor | Greater Shelter Island Association.
Event Description | Boat Parade.
Date | Late December.
Location | San Diego Harbor.
Regulated Area | The northern portion of the San Diego Main Ship Channel from Seaport Village to the Shelter Island Basin.
| 6. Mission Bay Parade of Lights
Sponsor | Mission Bay Yacht Club.
Event Description | Boat Parade.
Date | Late December.
Location | San Diego, CA.
Regulated Area | Mission Bay, the Main Entrance Channel, Sail Bay, and Fiesta Bay.

3. Revise § 100.1102 to read as follows:

§ 100.1102 Annual Marine Events on the Colorado River, between Davis Dam (Bullhead City, Arizona) and Headgate Dam (Parker, Arizona).

(a) General. Special local regulations are established for the events listed in Table 1 of this section. Notice of implementation of these special local regulations will be made by publication in the Federal Register 30 days prior to the event for those events without specific dates or by Notice to Mariners 20 Days prior to the event for those events listing a period for which a firm date is identifiable. In all cases, further information on exact dates, times, and other details concerning the number and type of participants and an exact geographical description of the areas are published by the Eleventh Coast Guard District in the Local Notice to Mariners at least 20 days prior to each event. To be placed on the mailing list for Local Notice to Mariners contact: Commander (dpw), Eleventh Coast Guard District, Coast Guard Island, Building 50-2, Alameda, CA 94501-5100. Note: Sponsors of events listed in Table 1 of this section must submit an application each year as required by 33 CFR part 100, subpart A, to the cognizant Coast Guard Sector Commander. Sponsors are informed that ample lead time is required to inform all Federal, state, local agencies, and/or other interested parties and to provide the sponsor the best support to ensure the safety of life and property. A Coast Guard-National Park Service agreement exists for both the Glen Canyon and Lake Mead National Recreational Areas; applicants shall contact the cognizant authority for approval of events in these areas.

(b) Special local regulations. All persons and vessels not registered with the sponsor as participants or as official patrol vessels are considered spectators. The “official patrol” consists of any Coast Guard, other Federal, state or local law enforcement, and any public or sponsor-provided vessels assigned or approved by the cognizant Coast Guard Sector Commander to patrol each event.

(1) No spectator shall anchor, block, loiter, nor impede the through transit of participants or official patrol vessels in the regulated areas during all applicable effective dates and times unless cleared to do so by or through an official patrol vessel.

(2) When hailed and/or signaled by an official patrol vessel, any spectator located within a regulated area during all applicable effective dates and times shall come to an immediate stop.

(3) The Patrol Commander (PATCOM) is empowered to forbid and control the movement of all vessels in the regulated area. The Patrol Commander shall be designated by the cognizant Coast Guard Sector Commander; will be a U.S. Coast Guard commissioned officer, warrant officer, or petty officer to act as the Sector Commander's official representative; and will be located aboard the lead official patrol vessel. As the Sector Commander's representative, the PATCOM may terminate the event any time it is deemed necessary for the protection of life and property. PATCOM may be reached on VHF-FM Channel 13 (156.65MHz) or 16 (156.8MHz) when required, by the call sign “PATCOM”.

(4) The Patrol Commander may, upon request, allow the transit of commercial vessels through regulated areas when it is safe to do so.

(5) The Coast Guard may be assisted by other Federal, state, or local agencies.

Table 1 to § 100.1102
[All coordinates referenced use datum NAD 83.]
| 1. Lake Havasu Winter Heat Water-Ski Race
Sponsor | National Water-ski Racing Association.
Event Description | Water-ski races.
Date | Saturday and Sunday in February.
Location | Lake Havasu, AZ.
Regulated Area | That portion of the lower Colorado River on the Arizona side between Thompson Bay and Copper Canyon.
| 2. Havasu Landing Regatta
Sponsor | Southern Outboard Association.
Event Description | Boat Races on closed course.
Date | Saturday and Sunday in February.
Location | Havasu Lake, CA.
Regulated Area | That portion of the lower Colorado River on the California side at Havasu Landing Resort and Casino.
| 3. Parker International Water-ski Race
Sponsor | International Water-ski Race Association.
Event Description | Water-ski Show.
Date | Second Saturday and Sunday in March.
Location | Parker, AZ.
Regulated Area | The entire water area of the Colorado River beginning at Bluewater Marina in Parker, AZ, and extending approximately 10 miles to La Paz County Park.
| 4. Desert Storm
Sponsor | Lake Racer LLC.
Event Description | Boat Poker Run and Exhibition Runs.
Date | April weekend (3 day event).
Location | Lake Havasu, AZ.
Regulated Area | The waters of the lower Colorado River encompassed by the following boundaries: Boundary one from 34°27′44″ N, 114°20'53″ W to 34°27′51″ N, 114°20′43″ W. Boundary two from 34°26′50″ N, 114°20′41″ W to 34°27′14″ N, 114°20′55″ W. Boundary three from 34°26′10″ N, 114°18′40″ W to 34°25′50′ N, 114°18′52″ W.
| 5. Lake Havasu Grand Prix
Sponsor | POPRA.
Event Description | Boat Races on closed course.
Date | April weekend (2 day event).
Location | Lake Havasu, AZ.
Regulated Area | The waters of the lower Colorado River encompassed by the following boundaries: Boundary one from 34°27′44″ N, 114°20′53″ W to 34°27′51″ N, 114°20′43″ W. Boundary two from 34°26′50″ N, 114°20′41″ W to 34°27′14″ N, 114°20′55″ W. Boundary three from 34°26′10″ N, 114°18′40″ W to 34°25′50″ N, 114°18′52″ W.
| 6. Bluewater Resort and Casino Spring Classic
Sponsor | Southern California Speedboat Club.
Event Description | Professional High-speed powerboat race, closed course.
Date | Saturday and Sunday in April.
Location | Parker, AZ.
Regulated Area | The Lake Moovalya area of the Colorado River in Parker, AZ.
| 7. IJSBA World Finals
Sponsor | International Jet Sports Boating Association.
Event Description | Personal Watercraft Race.
Date | Second Saturday through third Sunday of October (10 Days).
Location | Lake Havasu City, AZ.
Regulated Area | The navigable waters of Lake Havasu, AZ in the area known as Crazy Horse Campgrounds.
| 8. Parker Enduro
Sponsor | Parker Area Chamber of Commerce.
Event Description | Hydroplane, flatbottom, tunnel, and v-bottom powerboat race.
Date | Late October.
Location | Parker, AZ.
Regulated Area | Between river miles 179 and 185 (between the Roadrunner Resort and Headgate Dam).
| 9. Bluewater Resort and Casino Thanksgiving Regatta
Sponsor | Southern California Speedboat Club.
Event Description | Boat Races.
Date | Thursday, Friday, Saturday, and Sunday during Thanksgiving week.
Location | Parker, AZ.
Regulated Area | That portion of Lake Moovalya, Parker, AZ between the northern and southern boundaries of La Paz County Park.
| 10. Lake Havasu City Boat Parade of Lights
Sponsor | London Bridge Yacht Club.
Event Description | Boat parade during which vessels pass by a pre-designated vessel and then transit through the London Bridge Channel.
Date | First Saturday and Sunday in December.
Location | Lake Havasu, AZ.
Regulated Area | The limits of this temporary safety zone are consists of the navigable waters of North Lake Havasu, London Bridge Channel and Thompson Bay.

4. Revise § 100.1103 to read as follows:

§ 100.1103 Northern California and Lake Tahoe Area Annual Marine Events.

(a) General. Special local regulations are established for the events listed in Table 1 of this section. Notice of implementation of these special local regulations will be made by publication in the Federal Register 30 days prior to the event for those events without specific dates or by Notice to Mariners 20 Days prior to the event for those events listing a period for which a firm date is identifiable. In all cases, further information on exact dates, times, and other details concerning the number and type of participants and an exact geographical description of the areas are published by the Eleventh Coast Guard District in the Local Notice to Mariners at least 20 days prior to each event. To be placed on the mailing list for Local Notice to Mariners contact: Commander (dpw), Eleventh Coast Guard District, Coast Guard Island, Building 50-2, Alameda, CA 94501-5100. Note: Sponsors of events listed in Table 1 of this section must submit an application each year as required by 33 CFR part 100, subpart A, to the cognizant Coast Guard Sector Commander. Sponsors are informed that ample lead time is required to inform all Federal, state, local agencies, and/or other interested parties and to provide the sponsor the best support to ensure the safety of life and property.

(b) Special local regulations. All persons and vessels not registered with the sponsor as participants or as official patrol vessels are considered spectators. The “official patrol” consists of any Coast Guard; other Federal, state, or local law enforcement; and any public or sponsor-provided vessels assigned or approved by the cognizant Coast Guard Sector Commander to patrol each event.

(1) No spectator shall anchor, block, loiter, nor impede the through transit of participants or official patrol vessels in the regulated areas during all applicable effective dates and times unless cleared to do so by or through an official patrol vessel.

(2) When hailed and/or signaled by an official patrol vessel, any spectator located within a regulated area during all applicable effective dates and times shall come to an immediate stop.

(3) The Patrol Commander (PATCOM) is empowered to forbid and control the movement of all vessels in the regulated area. The Patrol Commander shall be designated by the cognizant Coast Guard Sector Commander; will be a U.S. Coast Guard commissioned officer, warrant officer, or petty officer to act as the Sector Commander's official representative; and will be located aboard the lead official patrol vessel. As the Sector Commander's representative, the PATCOM may terminate the event any time it is deemed necessary for the protection of life and property. PATCOM may be reached on VHF-FM Channel 13 (156.65 MHz) or 16 (156.8 MHz) when required, by the call sign “PATCOM”.

(4) The Patrol Commander may, upon request, allow the transit of commercial vessels through regulated areas when it is safe to do so.

(5) The Coast Guard may be assisted by other Federal, state, or local agencies.

Table 1 to § 100.1103
[All coordinates referenced use datum NAD 83.]
| 1. Redwood Heron Sprints Regatta
Sponsor | Humboldt State University Athletic Department.
Event Description | Sport rowing shells.
Date | Third Sunday in April
Location | Eureka Inner Reach Channel.
Regulated Area | The navigable waters within an area bounded by a line starting 40°48′16″ N, 124°10′28″ W; thence to 40°48′21″ N, 124°10′28″ W; thence to 40°48′35″ N, 124°09′17″ W; thence to 40°48′30″ N, 124°09′17″ W; thence returning to the point of origin.
| 2. Stockton Asparagus Festival
Sponsor | City of Stockton.
Event Description | Pier side Event.
Date | Last Friday, Saturday and Sunday in April.
Location | McLeod Lake, Stockton, CA.
Regulated Area | Starting at the Port of Stockton and extending east to McLeod Lake; beginning at latitude 37°57′06″ N and longitude 121°19′35″ W; then northerly to latitude 37°57′10″ N and longitude 121°19′36″ W; then north-northeasterly to latitude 37°57′24″ N and longitude 121°17′35″ W; then south-southwesterly to latitude 37°57′15″ N and longitude 121°17′41″ W; then south-southeasterly to latitude 37°57′14″ N and longitude 121° 17′31″ W; and then back to the beginning point.
| 3. Blessing of the Fleet
Sponsor | Corinthian Yacht Club.
Event Description | Boat parade during which vessels pass by a pre-designated platform or vessel.
Date | Last Sunday in April.
Location | San Francisco Waterfront to South Tower of Golden Gate Bridge.
Regulated Area | The area between a line drawn from Bluff Point on the southeastern side of Tiburon Peninsula to Point Campbell on the northern edge of Angel Island, and a line drawn from Peninsula Point to the southern edge of Tiburon Peninsula to Point Stuart on the western edge of Angel Island.
| 4. Opening Day on San Francisco Bay
Sponsor | Pacific Inter-Club Yacht Association and Corinthian Yacht Club.
Event Description | Boat parade during which vessels pass by a pre-designated platform or vessel.
Date | Last Sunday in April.
Location | San Francisco, CA waterfront: Crissy Field to Pier 39.
Regulated Area | The area defined by a line drawn from Fort Point; thence easterly approximately 5,000 yards; thence easterly to the Blossom Rock Bell Buoy; thence westerly to the Northeast corner of Pier 39; thence returning along the shoreline to the point of origin. Special Requirements: All vessels entering the regulated area shall follow the parade route established by the sponsor and be capable of maintaining an approximate speed of 6 knots. Commercial Vessel Traffic Allowances: The parade will be interrupted, as necessary, to permit the passage of commercial vessel traffic. Commercial traffic must cross the parade route at a no-wake speed and perpendicular to the parade route.
| 5. Kinetic Sculpture Race
Sponsor | Kinetic Sculpture Race Inc.
Event Description | Human Powered Craft Race.
Date | Saturday and Sunday of Memorial Day Weekend.
Location | Eureka Inner Reach Channel.
Regulated Area | The navigable waters within an area bounded by a line starting 40°48′16″ N, 124°10′28″ W; thence to 40°48′21″ N, 124°10′28″ W; thence to 40°48′35″ N, 124°09′17″ W; thence to 40°48′30″ N, 124°09′17″ W; thence returning to the point of origin.
| 6. Sacramento Bridge-to-Bridge Water Festival
Sponsor | Sacramento Visitors Bureau.
Event Description | Professional high-speed powerboat races.
Date | Second to last Friday, Saturday and Sunday in July.
Location | Sacramento, CA.
Regulated Area | The navigable waters within an area bounded by a line starting 38°35′49″ N, 121°30′30″ W; thence to 38°35′49″ N, 121°30′23″ W: thence to 38°40′00″ N, 121°30′59″ W; thence to 38°33′46″ N, 121°31′11″ W thence returning to the point of origin.
| 7. Humboldt Bay Paddle Fest
Sponsor | Humboldt State University Alumni Association.
Event Description | Paddle boat race.
Date | Last weekend in September or first weekend in October.
Location | Eureka Inner Reach Channel.
Regulated Area | The navigable waters within an area bounded by a line starting 40°48′16″ N, 124°10′28″ W; thence to 40°48′21″ N, 124°10′28″ W; thence to 40°48′35″ N, 124°09′17″ W; thence to 40°48′30″ N, 124°09′17″ W; thence returning to the point of origin.
| 8. Delta Thunder Powerboat Race
Sponsor | Pacific Offshore Power Racing Association.
Event Description | Professional high-speed powerboat race.
Date | Second Saturday, Sunday in September.
Location | Off Pittsburgh, CA in the waters around Winter Island and Brown Island.
Regulated Area | The water area of Suisun Bay commencing at Simmons Point on Chipps Island; thence southwesterly to Stake Point on the southern shore of Suisun Bay; thence easterly following the southern shoreline of Suisun Bay and New York Slough to New York Slough Buoy 13; thence north-northwesterly to the Northwestern corner of Fraser Shoal; thence northwesterly to the western tip of Chain Island; thence west-northwesterly to the northeast tip of Van Sickle Island; thence following the shoreline of Van Sickle Island and Chipps Island and returning to the point of origin.
| 9. Pittsburg Seafood Festival Air Show
Sponsor | City of Pittsburg, CA.
Event Description | Pittsburg Seafood Festival Air Show.
Date | Second Saturday, Sunday in September.
Location | Off Pittsburg, CA in the waters around Winter Island and Brown Island.
Regulated Area | The water area of Suisun Bay commencing at Simmons Point on Chipps Island; thence southwesterly to Stake Point on the southern shore of Suisun Bay; thence easterly following the southern shoreline of Suisun Bay and New York Slough to New York Slough Buoy 13; thence north-northwesterly to the Northwestern corner of Fraser Shoal; thence northwesterly to the western tip of Chain Island; thence west-northwesterly to the northeast tip of Van Sickle Island; thence following the shoreline of Van Sickle Island and Chipps Island and returning to the point of origin.

5. Add § 100.1104 to read as follows:

§ 100.1104 Southern California Annual Marine Events for the Los Angeles Long Beach Captain of the Port Zone.

(a) General. Special local regulations are established for the events listed in Table 1 of this section. Notice of implementation of these special local regulations will be made by publication in the Federal Register 30 days prior to the event for those events without specific dates or by Notice to Mariners 20 Days prior to the event for those events listing a period for which a firm date is identifiable. In all cases, further information on exact dates, times, and other details concerning the number and type of participants and an exact geographical description of the areas are published by the Eleventh Coast Guard District in the Local Notice to Mariners at least 20 days prior to each event. To be placed on the mailing list for Local Notice to Mariners contact: Commander (dpw), Eleventh Coast Guard District, Coast Guard Island, Building 50-2, Alameda, CA 94501-5100. Note: Sponsors of events listed in Table 1 of this section must submit an application each year as required by 33 CFR part 100, subpart A, to the cognizant Coast Guard Sector Commander. Sponsors are informed that ample lead time is required to inform all Federal, state, local agencies, and/or other interested parties and to provide the sponsor the best support to ensure the safety of life and property.

(b) Special local regulations. All persons and vessels not registered with the sponsor as participants or as official patrol vessels are considered spectators. The “official patrol” consists of any Coast Guard; other Federal, state, or local law enforcement; and any public or sponsor-provided vessels assigned or approved by the cognizant Coast Guard Sector Commander to patrol each event.

(1) No spectator shall anchor, block, loiter, nor impede the through transit of participants or official patrol vessels in the regulated areas during all applicable effective dates and times unless cleared to do so by or through an official patrol vessel.

(2) When hailed and/or signaled by an official patrol vessel, any spectator located within a regulated area during all applicable effective dates and times shall come to an immediate stop.

(3) The Patrol Commander (PATCOM) is empowered to forbid and control the movement of all vessels in the regulated area. The Patrol Commander shall be designated by the cognizant Coast Guard Sector Commander; will be a U.S. Coast Guard commissioned officer, warrant officer, or petty officer to act as the Sector Commander's official representative; and will be located aboard the lead official patrol vessel. As the Sector Commander's representative, the PATCOM may terminate the event any time it is deemed necessary for the protection of life and property. PATCOM may be reached on VHF-FM Channel 13 (156.65 MHz) or 16 (156.8 MHz) when required, by the call sign “PATCOM”.

(4) The Patrol Commander may, upon request, allow the transit of commercial vessels through regulated areas when it is safe to do so.

(5) The Coast Guard may be assisted by other Federal, state, or local agencies.

Table 1 to § 100.1104
[All coordinates referenced use datum NAD 83.]
| 1. Newport to Ensenada Yacht Race
Sponsor | Newport Ocean Sailing Association.
Event Description | Sailing vessel race; open ocean.
Date | Fourth Friday in April.
Location | Newport Beach, CA.
Regulated Area | Starting area only. All waters of the Pacific Ocean near Newport Beach, CA bounded by a line starting 33°35′18″ N, 117°53′18″ W; thence to 33°34′54″ N, 117°53′18″ W; thence to 33°34′54″ N, 117°54′30″ W; thence to 33°35′18″ N, 117°54′30″ W; thence returning to the point of origin.

Dated: December 21, 2010.
J.R. Castillo,
Rear Admiral, U.S. Coast Guard, Commander, Eleventh Coast Guard District.

[FR Doc. 2011-2861 Filed 2-8-11; 8:45 am]

BILLING CODE 9110-04-P